DEPARTMENT OF ENERGY

Environmental Management Site-Specific Advisory Board, Idaho National Engineering and Environmental Laboratory

AGENCY: Department of Energy.

ACTION: Notice of open meeting.

SUMMARY: This notice announces a meeting of the Environmental Management Site-Specific Advisory Board (EM SSAB), Idaho National Engineering and Environmental Laboratory. The Federal Advisory Committee Act (Pub. L. 92-463, 86 Stat. 770) requires that public notice of these meetings be announced in the Federal Register.

DATES: Tuesday, May 20, 2003, 8 a.m.-6 p.m. Wednesday, May 21, 2003, 8 a.m.-5 p.m.

Public participation sessions will be held on: Tuesday, May 20, 2003, 12:15-12:30 p.m, 5:45-6 p.m. Wednesday, May 21, 2003, 11:45-12 noon, 4-4:15 p.m.

These times are subject to change as the meeting progresses. Please check with the meeting facilitator to confirm these times.

ADDRESSES: Red Lion Hotel (formerly the West Coast Hotel), 1555 Pocatello Creek Road, Pocatello, Idaho 83201.

FOR FURTHER INFORMATION CONTACT: Ms. Wendy Green Lowe, Idaho National Engineering and Environmental Laboratory (INEEL) Citizens' Advisory Board (CAB) Facilitator, Jason Associates Corporation, 545 Shoup Avenue, Suite 335B, Idaho Falls, ID 83402, Phone (208) 522-1662 or visit the Board's Internet home page at http://www.ida.net/users/cab.

SUPPLEMENTARY INFORMATION: Purpose of the Board: The purpose of the Board is to make recommendations to DOE and its regulators in the areas of future use, cleanup levels, waste disposition and cleanup priorities at the INEEL.

Tentative Agenda Topics: (Agenda topics may change up to the day of the meeting. Please contact Jason Associates for the most current agenda or visit the CAB's Internet site at http://www.ida.net/users/cab/.)

Objectives include:

• Develop an Annual Work Plan for the CAB

• Meet with the new site manager

• Develop consensus on a Recommendation Addressing the Proposed Plan for the V-Tanks

• Presentation on Emergency planning at INEEL

• Presentation on the Annual National Environmental Policy Act Planning Summary for the INEEL

• Presentation on Current and Potential Future Missions for Argonne National Laboratory-West

• Presentation on Fiscal Year 2003 EM Budget at the INEEL

• Status Report on Transition in INEEL mission to Nuclear Energy

• Status Report on Environmental Management (EM) Program and the implementation of the Performance Management Plan (PMP) at the INEEL

—status of permit modification efforts for the Waste Isolation Pilot Plant to receive remote-handled transuranic waste,

—lawsuit addressing the Waste Incidental to Reprocessing Determination

—INEEL Comprehensive Environmental Response, Compensation, and Liability Act Disposal Facility

• Status Report on Science and Technology Strategies for the Water Integration Project

• Status Report on Efforts under PMP Strategic Objectives 4.4 (acceleration of off-site shipments of transuranic waste) and 4.6 (efforts to consolidate mixed low-level waste into one facility, eliminate the backlog, and cease on-site disposal of low-level) and provide citizen reactions to the overall strategy

• Status Report on Tetra Tech (formerly Foster Wheeler) dry storage facility for spent nuclear fuel

Public Participation: This meeting is open to the public. Written statements may be filed with the Board facilitator either before or after the meeting. Individuals who wish to make oral presentations pertaining to agenda items should contact the Board Chair at the address or telephone number listed above. Request must be received five days prior to the meeting and reasonable provision will be made to include the presentation in the agenda. The Deputy Designated Federal Officer, Jerry Bowman, Assistant Manager for Laboratory Development, Idaho Operations Office, U.S. Department of Energy, is empowered to conduct the meeting in a fashion that will facilitate the orderly conduct of business. Every individual wishing to make public comment will be provided equal time to present their comments. Additional time may be made available for public comment during the presentations.

Minutes: The minutes of this meeting will be available for public review and copying at the Freedom of Information Public Reading Room, 1E-190, Forrestal Building, 1000 Independence Avenue, SW., Washington, DC 20585 between 9 a.m. and 4 p.m., Monday through Friday except Federal holidays. Minutes will also be available by writing to Ms. Penny Pink, INEEL CAB Administrator, North Wind Environmental, Inc., P.O. Box 51174, Idaho Falls, ID 83405 or by calling (208) 528-8718.

Issued at Washington, DC, on April 28, 2003.
Rachel Samuel,
Deputy Advisory Committee Management Officer.

[FR Doc. 03-10881 Filed 5-1-03; 8:45 am]

BILLING CODE 6450-01-P